FEDERAL RETIREMENT THRIFT INVESTMENT BOARD

Privacy Act of 1974; System of Records

AGENCY: Federal Retirement Thrift Investment Board (FRTIB).

ACTION: Notice of a new system of records; correction.

SUMMARY: The Federal Retirement Thrift Investment Board published a document in the Federal Register on July 28, 2021, concerning a new system of records. The document contained an incorrect reference to the agency's Privacy Act regulations.

FOR FURTHER INFORMATION CONTACT: Sarah Smith, Chief Privacy Officer, Federal Retirement Thrift Investment Board, Office of General Counsel, 77 K Street NE, Suite 1000, Washington, DC 20002, (202) 942-1600.

SUPPLEMENTARY INFORMATION: In the Federal Register of July 28, 2021, in FR Doc. 2021-16016, on page 40566, in the fourth line of the third column, in the “Exemptions Promulgated for the System” section, please correct the following:

Remove “5 CFR 1632.15” and insert “5 CFR 1630.15”.

Dated: October 21, 2021.
Dharmesh Vashee,
General Counsel and Senior Agency Official for Privacy.

[FR Doc. 2021-23291 Filed 10-25-21; 8:45 am]

BILLING CODE 6760-01-P